DEPARTMENT OF THE INTERIOR

Fish and Wildlife Service

[FWS-R6-ES-2025-N020; FXES11130600000-256-FF06E00000]

Endangered and Threatened Wildlife and Plants; Initiation of 5-Year Status Reviews of 20 Listed Species in the Mountain-Prairie Region

AGENCY: Fish and Wildlife Service, Interior.

ACTION: Notice of initiation of reviews; request for information.

SUMMARY: We, the U.S. Fish and Wildlife Service, are initiating 5-year status reviews under the Endangered Species Act of 1973, as amended, for 20 species in the Mountain-Prairie Region. A 5-year status review is based on the best scientific and commercial data available at the time of the review. We are requesting submission of any such information that has become available since the previous 5-year status review for each species.

DATES: To ensure consideration, please submit your written information by November 14, 2025. However, we will continue to accept new information about any listed species at any time.

ADDRESSES: For instructions on how to submit information for each species, see table 1 in the SUPPLEMENTARY INFORMATION section.

FOR FURTHER INFORMATION CONTACT: To request information, contact the appropriate person in table 1 in the SUPPLEMENTARY INFORMATION section. For general information, contact Karen Newlon, Regional Recovery Project Manager, by phone at 406-430-9010 or by email at karen_newlon@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We are initiating 5-year status reviews under the Endangered Species Act of 1973, as amended (Act; 16 U.S.C. 1531 et seq.) for 14 plants and 6 animals in the Mountain-Prairie Region. A 5-year status review is based on the best scientific and commercial data available at the time of the review. Therefore, we are requesting submission of any such information that has become available since he most recent status review for each species.

Why do we conduct 5-year status reviews?

Under the Act (16 U.S.C. 1531 et seq.), we maintain Lists of Endangered and Threatened Wildlife and Plants (which we collectively refer to as the List) in the Code of Federal Regulations (CFR) at 50 CFR 17.11 (for animals) and 17.12 (for plants). Section 4(c)(2)(A) of the Act requires us to review each listed species' status at least once every 5 years. Our regulations at 50 CFR 424.21 require that we publish a notice in the Federal Register announcing those species under active review. For additional information about 5-year status reviews, go to https://www.fws.gov/project/five-year-status-reviews.

What information do we consider in our review?

A 5-year status review considers all new information available at the time of the review. In conducting these reviews, we consider the best scientific and commercial data that have become available since the listing determination or most recent status review, such as:

(A) Species biology, including but not limited to population trends, distribution, abundance, demographics, and genetics;

(B) Habitat conditions, including but not limited to amount, distribution, and suitability;

(C) Conservation measures that have been implemented that benefit the species;

(D) Threat status and trends in relation to the five listing factors (as defined in section 4(a)(1) of the Act); and

(E) Other new information, data, or corrections, including but not limited to taxonomic or nomenclatural changes, identification of erroneous information contained in the List, and improved analytical methods.

Any new information will be considered during the 5-year status review and will also be useful in evaluating the ongoing recovery programs for the species.

Which species are under review?

This notice announces our active review of the 20 species listed in table 1 below.

Table 1—Species Under Review
Common name | Scientific name | Listing status | Historical range | Final listing rule (Federal Register citation and publication date) | Contact person, phone, email | Contact person's U.S. mail address
Pallid sturgeon | Scaphirhynchus albus | Endangered | Arkansas, Illinois, Iowa, Kansas, Kentucky, Louisiana, Mississippi, Missouri, Montana, Nebraska, North Dakota, South Dakota, Tennessee, and Wyoming | 55 FR 36641; 9/6/1990 | Wayne Nelson-Stastny, Missouri River Recovery Office Coordinator, 402-667-2884; wayne_nelsonstastny@fws.gov | Ecological Services, Missouri River Recovery Office, 31247 436th Avenue, Yankton, SD 57078.
Salt Creek tiger beetle | Cicindela nevadica lincolniana | Endangered | Nebraska | 70 FR 58335; 10/6/2005 | Mark Porath, Project Leader, 308-216-2077; mark_porath@fws.gov | Ecological Services, Nebraska Field Office, 9325 South Alda Road, Wood River, NE 68883.
Blowout penstemon | Penstemon haydenii | Endangered | Nebraska and Wyoming | 52 FR 32926; 9/1/1987 | Mark Porath (information above) | Ecological Services, Nebraska Field Office (information above).
Humpback chub | Gila cypha | Threatened | Arizona, Colorado, Utah, and Wyoming | 32 FR 4001; 3/11/1967 | Julie Stahli, Director, Upper Colorado River Recovery Program, 303-236-4573; julie_stahli@fws.gov | Upper Colorado Endangered Fish River Recovery Program, 44 Union Blvd., #120, Lakewood, CO 80228.
Barneby ridge-cress | Lepidium barnebyanum | Endangered | Utah | 55 FR 39860; 9/28/1990 | George Weekley, Project Leader, 801-239-0561; george_weekley@fws.gov | Ecological Services, Utah Field Office, 440 West 200 South, Suite 500, Salt Lake City, UT 84101.
Welsh's milkweed | Asclepias welshii | Threatened | Utah and Arizona | 52 FR 41435; 10/28/1987 | George Weekley (information above) | Ecological Services, Utah Field Office (information above).
Kodachrome bladderpod | Lesquerella tumulosa | Endangered | Utah | 58 FR 52027; 10/6/1993 | George Weekley (information above) | Ecological Services, Utah Field Office (information above).
Barneby reed-mustard | Schoenocrambe barnebyi | Endangered | Utah | 57 FR 1398; 1/14/1992 | George Weekley (information above) | Ecological Services, Utah Field Office (information above).
Shivwits milkvetch | Astragalus ampullarioides | Endangered | Utah | 66 FR 49560; 9/28/2001 | George Weekley (information above) | Ecological Services, Utah Field Office (information above).
Holmgren milkvetch | Astragalus holmgreniorum | Endangered | Utah | 66 FR 49560; 9/28/2001 | George Weekley (information above) | Ecological Services, Utah Field Office (information above).
Utah prairie dog | Cynomys parvidens | Threatened | Utah | 38 FR 14678; 6/4/1973, 49 FR 22330; 5/29/1984 | George Weekley (information above) | Ecological Services, Utah Field Office (information above).
Jones cycladenia | Cycladenia humilis var. jonesii | Threatened | Utah and Arizona | 51 FR 16526; 5/5/1986 | George Weekley (information above) | Ecological Services, Utah Field Office (information above).
Maguire primrose | Primula maguirei | Threatened | Utah | 50 FR 33731; 8/21/1985 | George Weekley (information above) | Ecological Services, Utah Field Office (information above).
June sucker | Chasmistes liorus | Threatened | Utah | 51 FR 10851; 3/31/1986 | George Weekley (information above) | Ecological Services, Utah Field Office (information above).
Wright fishhook cactus | Sclerocactus wrightiae | Endangered | Utah | 44 FR 58866; 10/11/1979 | George Weekley (information above) | Ecological Services, Utah Field Office (information above).
Dwarf bear-poppy | Arctomecon humilis | Endangered | Utah | 44 FR 64250; 11/6/1979 | George Weekley (information above) | Ecological Services, Utah Field Office (information above).
Pagosa skyrocket | Ipomopsis polyantha | Endangered | Colorado | 75 FR 35721; 6/23/2010 | Nathan Darnall, Western Colorado Supervisor, 970-628-7181; nathan_darnall@fws.gov | Ecological Services, Western Colorado Field Office, 445 W Gunnison Ave., #240, Grand Junction, CO 81501-5711.
Clay-loving wild buckwheat | Eriogonum pelinophilum | Endangered | Colorado | 49 FR 28562; 7/13/1984 | Nathan Darnall (information above) | Ecological Services, Western Colorado Field Office (information above).
DeBeque phacelia | Phacelia submutica | Threatened | Colorado | 75 FR 35721; 6/23/2010 | Nathan Darnall (information above) | Ecological Services, Western Colorado Field Office (information above).
Kendall Warm Springs dace | Rhinichthys osculus thermalis | Endangered | Wyoming | 35 FR 16047; 10/13/1970 | Tyler Abbott, Project Leader, 307-772-2374; tyler_abbott@fws.gov | Ecological Services, Wyoming Field Office, 5353 Yellowstone Road, #308A, Cheyenne, WY 82009.

Request for New Information

To ensure that a 5-year status review is complete and based on the best available scientific and commercial information, we request new information from all sources. See What information do we consider in our review? for specific criteria. If you submit information, please support it with documentation such as maps, bibliographic references, methods used to gather and analyze the data, and/or copies of any pertinent publications, reports, or letters by knowledgeable sources.

How do I ask questions or provide information?

If you wish to provide information for any species listed above, please submit your comments and materials to the appropriate contact in the table 1 above. You may also direct questions to those contacts. Individuals in the United States who are deaf, deafblind, hard of hearing, or have a speech disability may dial 711 (TTY, TDD, or TeleBraille) to access telecommunications relay services. Individuals outside the United States should use the relay services offered within their country to make international calls to the point-of-contact in the United States.

Public Availability of Submissions

Before including your address, phone number, email address, or other personal identifying information in your comment, you should be aware that your entire comment—including your personal identifying information—may be made publicly available at any time. While you can ask us in your comment to withhold your personal identifying information from public review, we cannot guarantee that we will be able to do so.

Contents of Submissions

Please make your comments as specific as possible. Please confine your comments to issues for which we seek comments in this notice and explain the basis for your comments. Include sufficient information with your comments to allow us to authenticate any scientific or commercial data you include.

The comments and recommendations that will be most useful and likely to be relevant to agency decisions are: (1) Those supported by quantitative information or studies; and (2) Those that include citations to, and analyses of, the applicable laws and regulations.

Authority

We publish this notice under the authority of the Endangered Species Act of 1973, as amended (16 U.S.C. 1531 et seq.).

Anna Muñoz
Deputy Regional Director, Lakewood, Colorado.

[FR Doc. 2025-17701 Filed 9-12-25; 8:45 am]

BILLING CODE 4333-15-P